DEPARTMENT OF ENERGY

Federal Energy Regulatory Commission

Combined Notice of Filings #1

Take notice that the Commission received the following electric corporate filings:

Docket Numbers: EC25-149-000.

Applicants: Genie Retail Energy Inc.

Description: Joint Application for Authorization Under Section 203 of the Federal Power Act of Citizens Choice Energy, LLC, et al.

Filed Date: 9/26/25.

Accession Number: 20250926-5212.

Comment Date: 5 p.m. ET 10/17/25.

Take notice that the Commission received the following exempt wholesale generator filings:

Docket Numbers: EG25-542-000.

Applicants: Huckleberry Solar, LLC.

Description: Huckleberry Solar, LLC submits Notice of Self-Certification of Exempt Wholesale Generator Status.

Filed Date: 9/29/25.

Accession Number: 20250929-5122.

Comment Date: 5 p.m. ET 10/20/25.

Docket Numbers: EG25-543-000.

Applicants: Mayes Solar, LLC.

Description: Mayes Solar, LLC submits Notice of Self-Certification of Exempt Wholesale Generator Status.

Filed Date: 9/29/25.

Accession Number: 20250929-5124.

Comment Date: 5 p.m. ET 10/20/25.

Docket Numbers: EG25-544-000.

Applicants: Salt Branch Solar, LLC.

Description: Salt Branch Solar, LLC submits Notice of Self-Certification of Exempt Wholesale Generator Status.

Filed Date: 9/29/25.

Accession Number: 20250929-5136.

Comment Date: 5 p.m. ET 10/20/25.

Docket Numbers: EG25-545-000.

Applicants: Twelvemile Energy II, LLC.

Description: Twelvemile Energy II, LLC submits Notice of Self-Certification of Exempt Wholesale Generator Status.

Filed Date: 9/29/25.

Accession Number: 20250929-5137.

Comment Date: 5 p.m. ET 10/20/25.

Take notice that the Commission received the following electric rate filings:

Docket Numbers: ER13-1347-002; ER10-3048-009; ER10-3156-001.

Applicants: MeadWestvaco Coated Board, LLC, Longview Fibre Paper and Packaging, Inc., MeadWestvaco Virginia Corporation.

Description: Notice of Non-Material Change in Status of MeadWestvaco Coated Board, LLC, et al.

Filed Date: 9/26/25.

Accession Number: 20250926-5217.

Comment Date: 5 p.m. ET 10/17/25.

Docket Numbers: ER17-1723-001.

Applicants: Green Power Solutions of Georgia, LLC.

Description: Notice of Non-Material Change in Status of Green Power Solutions of Georgia, LLC.

Filed Date: 9/26/25.

Accession Number: 20250926-5216.

Comment Date: 5 p.m. ET 10/17/25.

Docket Numbers: ER25-951-002.

Applicants: PacifiCorp.

Description: Compliance filing: PacifiCorp submits tariff filing per 35: Compliance Filing to be effective 12/31/9998.

Filed Date: 9/29/25.

Accession Number: 20250929-5161.

Comment Date: 5 p,m, ET 10/20/25.

Docket Numbers: ER25-1868-002.

Applicants: Portland General Electric Company.

Description: Compliance filing: Portland General Electric EDAM Compliance Filing Att. P to be effective 12/31/9998.

Filed Date: 9/29/25.

Accession Number: 20250929-5143.

Comment Date: 5 p.m. ET 10/20/25.

Docket Numbers: ER25-2694-001.

Applicants: Kelso Solar LLC.

Description: Notice of Non-Material Change in Status of Kelso Solar LLC.

Filed Date: 9/25/25.

Accession Number: 20250925-5161.

Comment Date: 5 p.m. ET 10/16/25.

Docket Numbers: ER25-3105-001.

Applicants: Southwest Power Pool, Inc.

Description: Tariff Amendment: Amended Filing—Revisions to Add the Electric Storage Resource Load Assessment to be effective 10/7/2025.

Filed Date: 9/29/25.

Accession Number: 20250929-5090.

Comment Date: 5 p.m. ET 10/20/25.

Docket Numbers: ER25-3544-000.

Applicants: Tri-State Generation and Transmission Association, Inc.

Description: 205(d) Rate Filing: La Plata Electric Association, Inc. Withdrawal Agreement to be effective 11/26/2025.

Filed Date: 9/26/25.

Accession Number: 20250926-5178.

Comment Date: 5 p.m. ET 10/17/25.

Docket Numbers: ER25-3545-000.

Applicants: Northern States Power Company, a Wisconsin corporation.

Description: 205(d) Rate Filing: 2025-09-26 NSP-DPC FSA—Fnt City 178 to be effective 9/29/2025.

Filed Date: 9/26/25.

Accession Number: 20250926-5197.

Comment Date: 5 p.m. ET 10/17/25.

Docket Numbers: ER25-3546-000.

Applicants: Northern States Power Company, a Wisconsin corporation.

Description: 205(d) Rate Filing: 2025-09-25 NSP-DPC—FSA Anderson 179 to be effective 9/29/2025.

Filed Date: 9/29/25.

Accession Number: 20250929-5000.

Comment Date: 5 p.m. ET 10/20/25.

Docket Numbers: ER25-3547-000.

Applicants: Southwest Power Pool, Inc.

Description: 205(d) Rate Filing: 4479 Grand River Dam Authority GIA to be effective 9/19/2025.

Filed Date: 9/29/25.

Accession Number: 20250929-5069.

Comment Date: 5 p.m. ET 10/20/25.

Docket Numbers: ER25-3548-000.

Applicants: Southwest Power Pool, Inc.

Description: 205(d) Rate Filing: 4481 Empire District Electric Company GIA to be effective 9/24/2025.

Filed Date: 9/29/25.

Accession Number: 20250929-5070.

Comment Date: 5 p.m. ET 10/20/25.

Docket Numbers: ER25-3549-000.

Applicants: PacifiCorp.

Description: 205(d) Rate Filing: UAMPS Construction Agreement Fremont Solar (SA No. 1185) to be effective 11/29/2025.

Filed Date: 9/29/25.

Accession Number: 20250929-5082.

Comment Date: 5 p.m. ET 10/20/25.

Docket Numbers: ER25-3550-000.

Applicants: NSTAR Electric Company.

Description: Tariff Amendment: Cancellation—New England Power Company-Distrigas Facilities Support Agreement to be effective 9/30/2025.

Filed Date: 9/29/25.

Accession Number: 20250929-5110.

Comment Date: 5 p.m. ET 10/20/25.

Docket Numbers: ER25-3551-000.

Applicants: PJM Interconnection, L.L.C.

Description: 205(d) Rate Filing: Original NSA, Service Agreement No. 7749; AG1-054 to be effective 8/28/2025.

Filed Date: 9/29/25.

Accession Number: 20250929-5177.

Comment Date: 5 p.m. ET 10/20/25.

Docket Numbers: ER25-3552-000.

Applicants: California Independent System Operator Corporation.

Description: 205(d) Rate Filing: 2025-09-29 EIM Entity Agreement Between CAISO and Power Watch to be effective 11/29/2025.

Filed Date: 9/29/25.

Accession Number: 20250929-5189.

Comment Date: 5 p.m. ET 10/20/25.

Docket Numbers: ER25-3553-000.

Applicants: Huckleberry Solar, LLC.

Description: Initial Rate Filing: Market-Based Rate Application to be effective 11/29/2025.

Filed Date: 9/29/25.

Accession Number: 20250929-5195.

Comment Date: 5 p.m. ET 10/20/25.

Docket Numbers: ER25-3554-000.

Applicants: Occidental Power Services, Inc.

Description: 205(d) Rate Filing: Notice of Succession normal filing 2025 to be effective 9/30/2025.

Filed Date: 9/29/25.

Accession Number: 20250929-5202

Comment Date: 5 p.m. ET 10/20/25.

Take notice that the Commission received the following electric securities filings:

Docket Numbers: ES25-81-000.

Applicants: Interstate Power and Light Company.

Description: Application Under Section 204 of the Federal Power Act for Authorization to Issue Securities of Interstate Power and Light Company.

Filed Date: 9/26/25.

Accession Number: 20250926-5214.

Comment Date: 5 p.m. ET 10/17/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: September 29, 2025.
Carlos D. Clay,
Deputy Secretary.

[FR Doc. 2025-19265 Filed 10-1-25; 8:45 am]

BILLING CODE 6717-01-P